DEPARTMENT OF ENERGY

Federal Energy Regulatory Commission

Notice of Effectiveness of Exempt Wholesale Generator and Foreign Utilty Company Status

HDSI, LLC | EG21-2-000
Wapello Solar LLC | EG21-3-000
Upton County 2 Solar | EG21-5-000
Harts Mill TE Holdings LLC | EG21-6-000
Henrietta D Energy Storage LLC | EG21-7-000
Orange County Energy Storage 2 LLC | EG21-8-000
Orange County Energy Storage 3 LLC | EG21-9-000
Flat Ridge 3 Wind Energy, LLC | EG21-10-000
Nutmeg Solar, LLC | EG21-11-000
BT Cooke Solar, LLC | EG21-12-000
Rancho Seco Solar, LLC | EG21-14-000
BT Kellam Solar, LLC | EG21-15-000
Todd Solar LLC | EG21-16-000
Groton Station Fuel Cell, LLC | EG21-17-000
Sigurd Solar LLC | EG21-19-000
Conrad (Hawarden) Ltd | FC21-1-000

Take notice that during the month of December 2020, the status of the above-captioned entities as Exempt Wholesale Generators or Foreign Utility Companies became effective by operation of the Commission's regulations. 18 CFR 366.7(a) (2020).

Dated: January 14, 2021.
Kimberly D. Bose,
Secretary.

[FR Doc. 2021-01351 Filed 1-21-21; 8:45 am]

BILLING CODE 6717-01-P